DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Treatment Improvement Protocols (TIPs) Evaluation Project—Prospective Study—New—Since 1993, SAMHSA's Center for Substance Abuse Treatment has published 37 Treatment Improvement Protocols, which provide administrative and clinical practice guidance to the substance abuse treatment field. This is the third of three major studies and is designed to assess readers' use of TIPs and the impact of TIPs on changing substance abuse treatment practices.

The Prospective Study seeks to determine the most cost effective level of support needed by substance abuse treatment providers to implement in practice the information contained in TIPs. Specifically, this study will examine the use of TIP #35, “Enhancing Motivation for Change in Substance Abuse Treatment,” by treatment professionals in four different areas of the country. The study will use a pretest/post-test experimental design in which treatment facilities will be randomly assigned to one of four conditions: (1) The control group (which will receive the TIP and no additional support); (2) a TIP-plus curriculum group; (3) a TIP-plus curriculum and training group; and (4) a TIP-plus curriculum, training, and ongoing support group.

Data will be collected at baseline and follow-up. Measures will include providers' awareness of TIP 35, their knowledge of the content contained in this TIP, their attitudes toward the TIP and its content, and their use of this TIP an dits impact on practices within their facilities. Burden for State substance abuse (SSA) agency directors in the four areas of the country chosen will consist of information gathering by telephone. Burden for other respondents will consist of completing the pretest and post-test questionnaires. The total estimated burden for this project, to be completed in a 1-year period, is summarized below.

Respondent | Number of respondents | Responses/ respondent | Average burden/ response (hrs.) | Total burden (hrs.)
SSA Directors | 10 | 1 | 1.0 | 10
Facility Directors | 560 | 2 | .5 | 560
Clinical Supervisors | 560 | 2 | .5 | 560
Program Counselors | 1,680 | 2 | .5 | 1,680
Total |  |  |  | 2,810

Send comments to Nancy Pearce, SAMHSA Reports Clearance Officer, Room 16-105, Parklawn Building, 5600 Fishers Lane, Rockville, MD 20857. Written comments should be received within 60 days of this notice.

Dated: August 21, 2000.
Richard Kopanda,
Executive Officer, SAMHSA.

[FR Doc. 00-21712 Filed 8-24-00; 8:45 am]

BILLING CODE 4162-20-P